DEPARTMENT OF HEALTH AND HUMAN SERVICES

Health Resources and Services Administration

Notice of Supplemental Award; Early Childhood Developmental Health Systems: Evidence to Impact

AGENCY: Health Resources and Services Administration (HRSA), Department of Health and Human Services.

ACTION: Notice of supplemental award.

SUMMARY: HRSA is providing additional award funds of $440,000 in fiscal year (FY) 2025 to ZERO TO THREE National Center for Infant, Toddler, and Families, Inc., the current recipient of the Early Childhood Developmental Health Systems (ECDHS) Program cooperative agreement (HRSA-22-091), to support the continuation of existing activities relating to early childhood development health services.

FOR FURTHER INFORMATION CONTACT: Ekaterina Zoubak, Early Childhood Systems Analyst, Division of Home Visiting and Early Childhood Systems, HRSA, at ezoubak@hrsa.gov or 240-475-8014.

SUPPLEMENTARY INFORMATION:

Intended Recipient of the Award: ZERO TO THREE National Center for Infant, Toddler, and Families, Inc.

Amount of Non-Competitive Award: $440,000.

Project Period: September 30, 2025, to September 29, 2026.

Assistance Listing Number: 93.110.

Award Instrument: Non-competitive supplemental funding to the existing Cooperative Agreement.

Authority: 42 U.S.C. 701(a)(2) (Title V, § 501(a)(2) of the Social Security Act).

Table 1—Recipient(s) and Award Amount(s)
Grant No. | Award recipient name | City, state | Award amount
UK2MC46349 | ZERO TO THREE National Center for Infant, Toddler and Families, Inc | Washington, DC | $440,000

Justification: In FY 2022, under the authority for Special Projects of Regional and National Significance (42 U.S.C. 701(a)(2) (Title V, § 501(a)(2) of the Social Security Act)), HRSA awarded funds for the ECDHS Program to ZERO TO THREE National Center for Infant, Toddler, and Families, Inc. (HRSA-22-091). This award included expectations for the recipient to provide technical assistance to the Transforming Pediatrics in Early Childhood (TPEC) program (HRSA-22-141) recipients and a broad range of providers and stakeholders to support the integration of early childhood development expertise in pediatric care.

A Congressional Report accompanying the Further Consolidated Appropriations Act, 2024 (Pub. L. 118-47) included funding to “expand placements of early childhood development experts in pediatrician offices with a high percentage of Medicaid and Children's Health Insurance Program patients” (Senate Report 118-84), which led to the funding of four additional TPEC recipients in FY 2024, for a total of eight. Consistent with Congressional intent accompanying the FY 2024 appropriation, HRSA, through its Maternal and Child Health Bureau, will provide a supplement of $440,000 in Special Projects of Regional and National Significance funding to the ECDHS Program recipient to continue their provision of technical assistance to these four additional TPEC recipients and for national dissemination of technical assistance to support early childhood development integration within comprehensive early childhood systems.

This supplement will improve access to early childhood development services that improve health outcomes and prevent the onset of chronic illness for families nationwide and will build the capacity of the health system to deliver high-quality pediatric services that address the holistic needs of children and families.

Thomas J. Engels,
Administrator.

[FR Doc. 2025-15847 Filed 8-19-25; 8:45 am]

BILLING CODE 4165-15-P